DEPARTMENT OF THE INTERIOR

National Park Service

Notice of Inventory Completion: U.S. Department of Agriculture, Forest Service, Shoshone National Forest, Cody, WY, and Buffalo Bill Historical Center, Cody, WY

AGENCY: National Park Service, Interior.

ACTION: Notice.

Notice is here given in accordance with the Native American Graves Protection and Repatriation Act (NAGPRA), 25 U.S.C. 3003, of the completion of an inventory of human remains and associated funerary object in the control of the U.S. Department of Agriculture, Forest Service, Shoshone National Forest, Cody, WY, and in the physical custody of the Buffalo Bill Historical Center, Cody, WY. The human remains and associated funerary object were removed from the Mummy Cave site, Park County, WY.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by Buffalo Bill Historical Center professional staff in consultation with representatives of the Shoshone Tribe of the Wind River Reservation, Wyoming and Shoshone-Bannock Tribes of the Fort Hall Reservation of Idaho.

Between 1963 and 1966, human remains representing a minimum of one individual were removed from the Mummy Cave site, west of Cody, Park County, WY, by Harold McCracken. The human remains were removed from lands managed by the U.S. Forest Service and have been curated at the Buffalo Bill Historical Center since their removal. No known individual was identified. The one associated funerary object is a mountain sheep hide that was used to wrap the individual.

The individual was mummified and wrapped in a mountain sheep hide, which provided a radiocarbon date of 110 ± 1251 B.P. A study and report on the human remains was undertaken by Susan Hughes of the University of Washington and a team of physicians from the Paleopathology Association, Toledo, OH. No destructive testing was undertaken.

Mummy Cave contains several levels of human occupation. The human remains, representing an older Native American male, were recovered from an intentional stone-covered burial in level 3 of the cave. Archeological evidence from several levels of the site provides dates that are consistent with occupation of this area by the Plains and Great Basin people. Level 3 has been identified as Great Basin or Sheepeater, and level 1 as Shoshonean. There are historical ties between Sheepeater people and the Shoshonean people. The present-day Shoshonean tribes that consider themselves descendants of the Sheepeater are the Shoshone Tribe of the Wind River Reservation, Wyoming and the Shoshone-Bannock Tribes of the Fort Hall Reservation of Idaho.

Officials of the Shoshone National Forest have determined that, pursuant to 25 U.S.C. 3001 (9-10), the human remains described above represent the physical remains of one individual of Native American ancestry. Officials of Shoshone National Forest also have determined that, pursuant to 25 U.S.C. 3001(3)(A), the one object described above is reasonably believed to have been placed with or near individual human remains at the time of death or later as part of the death rite or ceremony. Lastly, officials of the Shoshone National Forest have determined that, pursuant to 25 U.S.C. 3001(2), there is a relationship of shared group identity that can be reasonably traced between the Native American human remains and the associated funerary object and the Shoshone Tribe of the Wind River Reservation, Wyoming and Shoshone-Bannock Tribes of the Fort Hall Reservation of Idaho.

Representatives of any other Indian tribe that believes itself to be culturally affiliated with the human remains and associated funerary object should contact Emma Hansen, Curator, Plains Indian Museum, Buffalo Bill Historical Center, 720 Sheridan Avenue, Cody, WY 82414, telephone (307) 587-4771 extension 4052, before March 24, 2006. Repatriation of the human remains and associated funerary object to the Shoshone Tribe of the Wind River Reservation, Wyoming and Shoshone-Bannock Tribes of the Fort Hall Reservation of Idaho may proceed after that date if no additional claimants come forward.

The U.S. Department of Agriculture, Forest Service, Shoshone National Forest is responsible for notifying the Arapaho Tribe of the Wind River Reservation, Wyoming; Crow Tribe of Montana; Shoshone Tribe of the Wind River Reservation, Wyoming; and Shoshone-Bannock Tribes of the Fort Hall Reservation of Idaho that this notice has been published.

Dated: January 31, 2006.
C. Timothy McKeown,
Acting Manager, National NAGPRA Program.

[FR Doc. E6-2445 Filed 2-21-06; 8:45 am]

BILLING CODE 4312-50-S